DEPARTMENT OF THE INTERIOR

Office of the Secretary

[15XD4523WK DWK000000.000000 DS64900000 DQ.64920.15COPER]

Proposed Renewal of Information Collection: 1090-0008, E-Government Web Site Customer Satisfaction Survey (Formerly American Customer Satisfaction Index (ACSI) E-Government Web Site Customer Satisfaction Survey)

AGENCY: Office of Strategic Employee and Organization Development, Federal Consulting Group, Interior.

ACTION: Notice and request for comments.

SUMMARY: The Department of the Interior, as part of its continuing effort to reduce paperwork and respondent burden, invites the general public and other Federal Agencies to take this opportunity to comment on proposed and/or continuing information collections, as required by the Paperwork Reduction Act of 1995, Public Law 104-13 (44 U.S.C. 3506(c)(2)(A)). Currently, the Federal Consulting Group within the Department of the Interior is soliciting comments concerning the E-Government Web site Customer Satisfaction Survey used by numerous Federal agencies to continuously assess and improve their Web sites.

DATES: Consideration will be given to all comments received by January 20, 2015.

ADDRESSES: Written comments may be submitted to the Federal Consulting Group, Attention: Richard Tate, 1849 C St NW., MS MIB 2256, Washington, DC 20240-0001. Comments may also be sent by facsimile to (202) 513-7686, or via email to Richard_Tate@ios.doi.gov. Individuals providing comments should reference Web site Customer Satisfaction Surveys.

FOR FURTHER INFORMATION CONTACT: To request additional information or copies of the form(s) and instructions, please write to the Federal Consulting Group (see contact information in the ADDRESSES section above).

SUPPLEMENTARY INFORMATION: Title: E-Government Web site Customer Satisfaction Survey (Formerly American Customer Satisfaction Index (ACSI) E-Government Web site Customer Satisfaction Survey)

OMB Control Number: 1090-0008

Abstract: The proposed renewal of this information collection provides a means to consistently assess, benchmark and improve customer satisfaction with Federal Agency Web sites within the Executive Branch. The Federal Consulting Group of the Department of the Interior serves as the executive agent for this methodology and has partnered with ForeSee Results, Inc., to offer this assessment to Federal Agencies.

ForeSee Results is a leader in customer satisfaction and customer experience management on the web. Its methodology (Customer Experience Analytics or CXA) is a derivative of the most respected, credible, and well-known measure of customer satisfaction in the country, the American Customer Satisfaction Index (ACSI). This methodology combines survey data and a patented econometric model to precisely measure the customer satisfaction of Web site users, identify specific areas for improvement and determine the impact of those improvements on customer satisfaction and future customer behaviors.

The ForeSee CXA methodology is the only cross-agency methodology for obtaining comparable measures of customer satisfaction with Federal Government Web sites. The ultimate purpose of this methodology is to help improve the quality of goods and services available to American citizens, including those from the Federal Government.

The E-Government Web site Customer Satisfaction Surveys will be completed subject to the Privacy Act of 1974, Public Law 93-579, December 31, 1974 (5 U.S.C. 522a). The agency information collection will be used solely for the purpose of the survey. The contractor will not be authorized to release any agency information obtained through surveys without first obtaining permission from the Federal Consulting Group and the participating agency. In no case will any new system of records containing privacy information be developed by the Federal Consulting Group, participating agencies, or the contractor collecting the data. In addition, participating Federal Agencies may only provide information sufficient to randomly select Web site visitors as potential survey respondents.

There is no other agency or organization able to provide the information that is accessible through the surveying approach used in this information collection. Further, the information will enable Federal agencies to determine customer satisfaction metrics with discrimination capability across variables. Thus, this information collection will assist Federal Agencies in improving their customer service in a targeted manner which will make best use of resources to improve service to the public.

This survey asks no questions of a sensitive nature, such as sexual behavior and attitudes, religious beliefs, and other matters that are commonly considered private.

Current Actions: Proposed renewal of collection of information.

Type of Review: Renewal.

Affected Public: Individuals and Households, Businesses and Organizations, State, Local or Tribal Government.

Estimated Number of Respondents: Participation by Federal Agencies in the E-Government Index is expected to vary as agency Web sites are added or deleted. However, based on historical records, projected average estimates for the next three years are as follows:

Average Expected Annual Number of Customer Satisfaction Surveys: 225.

Respondents: 1,125,000.

Annual responses: 1,125,000.

Frequency of Response: Once per survey.

Average minutes per response: 2.5.

Burden hours: 46,875 hours.

Request for Comments: Comments submitted in response to this notice will be summarized and/or included in the request for OMB approval. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments will be available for public inspection by appointment with the Federal Consulting Group at the contact information given in the ADDRESSES section. The comments, with names and addresses, will be available for public view during regular business hours. If you wish us to withhold your personal information, you must prominently state at the beginning of your comment what personal information you want us to withhold. We will honor your request to extent allowable by law.

An agency may not conduct or sponsor, and a person is not required to respond to, a collection of information unless it displays a currently valid Office of Management and Budget control number.

Dated: November 10, 2014.
Jessica Reed,
Director, Federal Consulting Group.

[FR Doc. 2014-27222 Filed 11-17-14; 8:45 am]

BILLING CODE 4334-12-P